DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Dallas Area Rapid Transit

[Docket Number FRA-2004-20000]

Dallas Area Rapid Transit (DART), located in Dallas, TX, seeks a permanent waiver of compliance from Title 49 of the CFR for operation of a light rail line at a “limited connection” with the Dallas Garland and Northeastern Railroad (DGNO). See Statement of Agency Policy Concerning Jurisdiction Over the Safety of Railroad Passenger Operations and Waivers Related to Shared Use of the Tracks of the General Railroad System by Light Rail and Conventional Equipment, 65 FR 42529 (July 10, 2000); see also Joint Statement of Agency Policy Concerning Shared Use of the Tracks of the General Railroad System by Conventional Railroads and Light Rail Transit Systems, 65 FR 42626 (July 10, 2000).

DART is currently expanding its light rail operations and will double in size to 93 miles by 2014. Expansion will include shared corridor operation with the DGNO, with up to 50 or more limited connections at shared highway-rail grade crossings anticipated.

Based on the foregoing, DART is seeking waiver of compliance from the provisions of the Federal Railroad Locomotive Safety Standards, 49 CFR 229.125—Headlights and Auxiliary Lights, and 49 CFR 234.105—Activation Failure.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communication concerning these proceedings should identify the appropriate docket number (e.g., Waiver Petition Docket Number FRA-2004-20000) and must be submitted to the Docket Clerk, DOT Docket Management Facility, Room PL-401 (Plaza Level), 400 7th Street, SW., Washington, DC 20590. Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC, on February 18, 2005.
Grady C. Cothen,
Deputy Associate Administrator for Safety.

[FR Doc. 05-4141 Filed 3-2-05; 8:45 am]

BILLING CODE 4910-06-P